DEPARTMENT OF THE TREASURY

Internal Revenue Service

26 CFR Part 1

[TD 9933]

RIN 1545-BO79

Unrelated Business Taxable Income Separately Computed for Each Trade or Business; Correction

AGENCY: Internal Revenue Service (IRS), Treasury.

ACTION: Correcting amendment.

SUMMARY: This document contains corrections to the final regulations (Treasury Decision 9933) that published in the Federal Register on Wednesday, December 2, 2020. The final regulations provide guidance on how an exempt organization subject to the unrelated business income tax determines if it has more than one unrelated trade or business, and, if so, how the exempt organization calculates unrelated business taxable income.

DATES: These corrections are effective on February 12, 2021 and are applicable on December 2, 2020.

FOR FURTHER INFORMATION CONTACT: Jonathan A. Carter at (202) 317-5800 or Stephanie N. Robbins at (202) 317-4086 (not toll-free numbers).

SUPPLEMENTARY INFORMATION:

Background

The final regulations (TD 9933) that are the subject of this correction are issued under section 512 of the Internal Revenue Code.

Need for Correction

As published on December 2, 2020 (85 FR 77952), the final regulations (TD 9933) contain errors that needs to be corrected.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

§ 1.512(a)-6 [Amended]

Par. 2. Section 1.512(a)-6 is amended:

a. In paragraph (a)(3)(i) by adding a semicolon after the word “year”.

b. In the third sentence of paragraph (h)(2) by removing the language “trade or business” and adding in its place “trades or businesses”.

Crystal Pemberton,
Senior Federal Register Liaison, Legal Processing Division, Associate Chief Counsel, (Procedure and Administration).

Editorial Note: This document was received for publication by the Office of the Federal Register on January 6, 2021.

[FR Doc. 2021-00341 Filed 2-11-21; 8:45 am]

BILLING CODE 4830-01-P